DEPARTMENT OF ENERGY

Federal Energy Regulatory Commission

[Docket No. CP20-12-000]

Columbia Gas Transmission, LLC; Notice of Intent To Prepare an Environmental Assessment for the Proposed Leach XPress Project Amendment and Request for Comments on Environmental Issues

The staff of the Federal Energy Regulatory Commission (FERC or Commission) will prepare an environmental assessment (EA) that will discuss the environmental impacts of Columbia Gas Transmission, LLC's (Columbia Gas) request for authorization to amend its certificate of public convenience and necessity granted by the Commission in the Order Issuing Certificates and Approving Abandonment (Order) issued on January 19, 2017 in Docket No. CP15-514-000 for the Leach XPress Project.

The amendment would involve the current and future operation of the Ceredo and Crawford Compressor Stations in Wayne County, West Virginia and Fairfield County, Ohio, respectively. The Commission will use this EA in its decision-making process to determine whether the amendment is in the public convenience and necessity.

This notice announces the opening of the scoping process the Commission will use to gather input from the public and interested agencies about issues regarding the amendment. The National Environmental Policy Act (NEPA) requires the Commission to take into account the environmental impacts that could result from its action whenever it considers the issuance of an authorization. NEPA also requires the Commission to discover concerns the public may have about proposals. This process is referred to as “scoping.” The main goal of the scoping process is to focus the analysis in the EA on the important environmental issues. By this notice, the Commission requests public comments on the scope of issues to address in the EA. To ensure that your comments are timely and properly recorded, please submit your comments so that the Commission receives them in Washington, DC on or before 5:00 p.m. Eastern Time on Friday, March 27, 2020.

You can make a difference by submitting your specific comments or concerns about the amendment. Your comments should focus on the potential operational impacts from the amendment. Your input will help the Commission staff determine what issues they need to evaluate in the EA. Commission staff will consider all filed comments during the preparation of the EA.

This notice is being sent to the Commission's current environmental mailing list for the amendment. State and local government representatives should notify their constituents of this proposed amendment and encourage them to comment on their areas of concern.

Public Participation

The Commission offers a free service called eSubscription which makes it easy to stay informed of all issuances and submittals regarding the dockets/projects to which you subscribe. These instant email notifications are the fastest way to receive notification and provide a link to the document files which can reduce the amount of time you spend researching proceedings. To sign up go to www.ferc.gov/docs-filing/esubscription.asp.

For your convenience, there are three methods you can use to submit your comments to the Commission. The Commission encourages electronic filing of comments and has staff available to assist you at (866) 208-3676 or FercOnlineSupport@ferc.gov. Please carefully follow these instructions so that your comments are properly recorded.

(1) You can file your comments electronically using the eComment feature, which is located on the Commission's website (www.ferc.gov) under the link to Documents and Filings. Using eComment is an easy method for submitting brief, text-only comments on a project;

(2) You can file your comments electronically by using the eFiling feature, which is located on the Commission's website (www.ferc.gov) under the link to Documents and Filings. With eFiling, you can provide comments in a variety of formats by attaching them as a file with your submission. New eFiling users must first create an account by clicking on eRegister. You will be asked to select the type of filing you are making; a comment on a particular project is considered a “Comment on a Filing”; or

(3) You can file a paper copy of your comments by mailing them to the following address. Be sure to reference the amendment docket number (CP20-12-000) with your submission: Kimberly D. Bose, Secretary, Federal Energy Regulatory Commission, 888 First Street NE, Room 1A, Washington, DC 20426

Summary of the Proposed Amendment

Columbia Gas's proposed amendment would modify the Order's noise level requirement, environmental condition 31, for the Ceredo and Crawford Compressor Stations. Since issuance of the Leach XPress Project Order, Columbia Gas has implemented several mitigation measures to reduce the noise levels at the nearest noise sensitive areas surrounding the Ceredo Compressor Station, and it claims that it is infeasible to further mitigate noise levels at this station at the current level of full-load operations. Columbia Gas did not install and was not authorized to install any modified compressor units at the Crawford Compressor Station, and it has confirmed that noise levels at the Crawford Compressor Station have not increased above the pre-existing noise levels since issuance of the Leach XPress Project Order.

Columbia Gas's proposed amendment would restrict any noise level increases at both stations and would slightly reduce the current noise levels at the Ceredo Compressor Station, as noted below. Columbia Gas's requested amendment, however, would modify the noise level restriction required by environmental condition 31 of the Leach XPress Project Order that currently requires it to ensure that noise levels do not exceed an day-night sound level of 55 decibels on the A-weighted scale at the nearest noise sensitive areas. Columbia Gas requests that the Commission modify environmental condition 31 to ensure that the noise generated by the Ceredo and Crawford Compressor Stations is consistent with the Commission's policy regarding noise levels at legacy compression stations ¹ that were built and operated prior to the Commission's noise level criteria included in environmental condition 31.²

¹ If the noise generated by an existing compressor station already exceeds an day-night sound level of 55 decibels on the A-weighted scale, any proposed modification or expansion of the compressor station should not increase above current levels after installing the new project equipment (Guidance Manual for Environmental Report Preparation for applications filed under the Natural Gas Act, February 2017, p.4-133; also see 18 CFR 157.206(b)(5)(ii)(B).

² The Ceredo Compressor Station was originally constructed in the mid-1950s and the Crawford Compressor Station was originally constructed prior to 1920 and has existing compressor units installed in the 1950s and 1960s. Both compressor stations continue to use legacy facilities to support system operations.

The legacy reciprocating units are the most dominant noise source at the Ceredo Compressor Station, and Columbia Gas's proposed amendment would also modify its operation of the Ceredo Compressor Station authorized in the Leach XPress Project Order to reduce operational noise levels on noise sensitive areas by the following: (1) Using four instead of five of the seven legacy reciprocating units at any given time, and (2) increasing the horsepower (hp) rate from 11,000 hp to 13,000 hp from each of three electric-driven compressor units installed since issuance of the Leach XPress Project Order. This proposed operational change would not involve any construction activities.

The general location of the Ceredo and Crawford Compressor Station facilities is shown in appendix 1.³

³ The appendices referenced in this notice will not appear in the Federal Register. Copies of appendices were sent to all those receiving this notice in the mail and are available at www.ferc.gov using the link called eLibrary or from the Commission's Public Reference Room, 888 First Street NE, Washington, DC 20426, or call (202) 502-8371. For instructions on connecting to eLibrary, refer to the last page of this notice.

Land Requirements for Construction

Given that no ground disturbance or material construction would take place within Ceredo or Crawford Compressor Stations, no land would be required for the amendment.

The EA Process

The EA will discuss impacts that could occur to noise quality as a result of the amendment's operational changes and noise mitigation proposed by Columbia Gas. Commission staff will also evaluate reasonable alternatives to the proposed amendment, and may make recommendations on how to lessen or avoid impacts on noise quality.

The EA will present Commission staffs' independent analysis of the issues. The EA will be available in electronic format in the public record through eLibrary ⁴ and the Commission's website (https://www.ferc.gov/industries/gas/enviro/eis.asp). If eSubscribed, you will receive instant email notification when the EA is issued. The EA may be issued for an allotted public comment period. Commission staff will consider all comments on the EA before making recommendations to the Commission. To ensure Commission staff have the opportunity to address your comments, please carefully follow the instructions in the Public Participation section, beginning on page 2.

⁴ For instructions on connecting to eLibrary, refer to the last page of this notice.

With this notice, the Commission is asking agencies with jurisdiction by law and/or special expertise with respect to the environmental issues of this amendment to formally cooperate in the preparation of the EA.⁵ Agencies that would like to request cooperating agency status should follow the instructions for filing comments provided under the Public Participation section of this notice.

⁵ The Council on Environmental Quality regulations addressing cooperating agency responsibilities are at Title 40, Code of Federal Regulations, Part 1501.6.

Environmental Mailing List

The environmental mailing list includes noise sensitive receivers within 0.5 mile of the Ceredo and Crawford Compressor Stations and anyone who submits comments on the amendment. Commission staff will update the environmental mailing list as the analysis proceeds to ensure that Commission notices related to this environmental review are sent to all individuals, organizations, and government entities interested in and/or potentially affected by the proposed amendment.

If the Commission issues the EA for an allotted public comment period, a Notice of Availability of the EA will be sent to the environmental mailing list and will provide instructions to access the electronic document on the FERC's website (www.ferc.gov). If you need to make changes to your name/address, or if you would like to remove your name from the mailing list, please return the attached “Mailing List Update Form” (appendix 2).

Additional Information

Additional information about the amendment is available from the Commission's Office of External Affairs, at (866) 208-FERC, or on the FERC website at www.ferc.gov using the eLibrary link. Click on the eLibrary link, click on General Search and enter the docket number in the Docket Number field, excluding the last three digits (i.e., CP20-12). Be sure you have selected an appropriate date range. For assistance, please contact FERC Online Support at FercOnlineSupport@ferc.gov or (866) 208-3676, or for TTY, contact (202) 502-8659. The eLibrary link also provides access to the texts of all formal documents issued by the Commission, such as orders, notices, and rulemakings.

Dated: February 26, 2020.
Kimberly D. Bose,
Secretary.

[FR Doc. 2020-04323 Filed 3-2-20; 8:45 am]

BILLING CODE 6717-01-P